DEPARTMENT OF COMMERCE

Foreign-Trade Zones Board

[B-49-2018]

Foreign-Trade Zone (FTZ) 18—San Jose, California, Authorization of Production Activity, Tesla, Inc. (Electric Passenger Vehicles and Components), Fremont and Palo Alto, California

On August 1, 2018, Tesla, Inc. submitted a notification of proposed production activity to the FTZ Board for its facilities within FTZ 18—Subzone 18G, in Fremont and Palo Alto, California.

The notification was processed in accordance with the regulations of the FTZ Board (15 CFR part 400), including notice in the Federal Register inviting public comment (83 FR 40226, August 14, 2018). On November 29, 2018, the applicant was notified of the FTZ Board's decision that no further review of the activity is warranted at this time. The production activity described in the notification was authorized, subject to the FTZ Act and the FTZ Board's regulations, including Section 400.14.

Dated: November 29, 2018.
Andrew McGilvray,
Executive Secretary.

[FR Doc. 2018-26547 Filed 12-6-18; 8:45 am]

BILLING CODE 3510-DS-P